ENVIRONMENTAL PROTECTION AGENCY

[ER-FRL-6691-2]

Environmental Impacts Statements; Notice of Availability

Responsible Agency: Office of Federal Activities, General Information (202) 564-7167 or http://www.epa.gov/compliance/nepa/.

Weekly receipt of Environmental Impact Statements Filed 09/10/2007 through 09/14/2007. Pursuant to 40 CFR 1506.9.

EIS No. 20070388, Draft EIS, FHW, MI, Blue Water Bridge Plaza Study and Improve to the I-94/1-69 Corridor, To Provide Safe, Efficient and Secure Movement of People and Goods across the Canadian—US Border, Port Huron Area, St. Clair County, MI. Comment Period Ends: 11/05/2007. Contact: Ryan Rizzo, (517) 702-1833.

EIS No. 20070389, Final EIS, FHW, CA, Interstate 5 (Santa Ana Freeway) Project, Improvement from State Route 91 in Orange County to Interstate 605 in Los Angeles County, CA. Wait Period Ends: 10/22/2007. Contact: Steve Healow, (916) 498-5849.

EIS No. 20070390, Draft Supplement, AFS, ID, Meadow Face Stewardship Pilot Project, Improvement to Aquatic and Terrestrial Vegetative Conditions, Supplement Information on the Cumulative Effects Analysis, Nez Perce National Forest, Clearwater Ranger District, Idaho County, ID. Comment Period Ends: 11/05/2007. Contact: Darcy Pederson (208) 983-1950.

EIS No. 20070391, Draft EIS, NRC, OK, Sequoyah Fuels Corporation Site, Proposed Reclamation Activities for the 243-hectare (600 acre) Site, (NUREG-1888) in Gore, OK, Comment Period Ends: 11/05/2007. Contact: Allen H. Fetter, (301) 415-8556.

EIS No. 20070392, Draft EIS, AFS, MT, Bozeman Municipal Watershed Project, To Implement Fuel Reduction Activities, Bozeman Ranger District, Gallatin National Forest, City of Bozeman Municipal Watershed, Gallatin County, MT. Comment Period Ends: 11/05/2007. Contact: Jim Devitt, (406) 587-6749.

EIS No. 20070393, Draft Supplement, AFS, MT, Fishtrap Project, Updated Information on Past Maintence/Restorative Treatments within Old Growth Stands, Timber Harvest, Prescribed Burning, Road Construction and Other Restoration Activities, Lolo National Forest, Plains/Thompson Falls Ranger District, Sanders County, MT. Comment Period Ends: 11/05/2007. Contact: Pat Partyka, (406) 826-4314.

EIS No. 20070394, Final EIS, COE, FL, Central and Southern Florida Project, Comprehensive Everglades Restoration Plan, Caloosahatchee River (C-43) West Basin Storage Reservoir Project, Restoration of the Ecosystem in Caloosahatchee Estuary, Lake Okeechobee, FL, Wait Period Ends: 10/22/2007. Contact: Susan Conner, (904) 232-1782.

EIS No. 20070395, Final EIS, USA, MD, Fort George G. Meade Base Realignment and Closure 2005 and Enhanced Use Lease (EUL) Actions, Implementation, Anne Arundel, Howard, Montgomery, Prince George's Counties, MD. Wait Period Ends: 10/22/2007. Contact: Bob Ross, (703) 602-2878.

Dated: September 18, 2007.
Robert W. Hargrove,
Director, NEPA Compliance Division, Office of Federal Activities.

[FR Doc. E7-18720 Filed 9-20-07; 8:45 am]

BILLING CODE 6560-50-P